DEPARTMENT OF LABOR

Employment and Training Administration

Notice of Determinations Regarding Eligibility To Apply for Worker Adjustment Assistance and NAFTA Transitional Adjustment Assistance

In Accordance with section 223 of the Trade Act of 1974, as amended, the Department of Labor herein presents summaries of determinations regarding eligibility to apply for trade adjustment assistance for workers (TA-W) issued during the period of April, 2002.

In order for an affirmative determination to be made and a certification of eligibility to apply for worker adjustment assistance to be issued, each of the group eligibility requirements of section 222 of the Act must be met.

(1) That a significant number or proportion of the workers in the workers' firm, or an appropriate subdivision thereof, have become totally or partially separated,

(2) That sales or production, or both, of the firm or subdivision have decreased absolutely, and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-40,282; Key Plastic, LLC, Felton, PA

TA-W-40,649; Bank Manufacturing Co., Havelock, NC

TA-W-40,781; Creative Leather and Vinyl, Milwaukee, WI

TA-W-40,829; Scientific Molding Corp., Brownsville, TX

TA-W-41,079; Exide Technologies transportation Business Group, Florence, MS

TA-W-41,203; Midwest International, Inc. d/b/a Midwest Manufacturing Co., Stanberry, MO

In the following cases, the investigation revealed that the criteria for eligibility have not been met for the reasons specified.

Increased imports did not contribute importantly to worker separations at the firm.

TA-W-41,086; Abbott Laboratories, Laurinburg, NC

TA-W-39,912 & A; Allen Edmonds Shoe Corp., d/b/a/ Maine Shoe, Lewiston, ME and Wilton, ME

TA-W-40,312; Timex Corp., Little Rock, AR

TA-W-40,890; Hutchinson Technology, Inc., Hutchinson, MN

TA-W-40,366; Mike Dent Enterprises, Burns, OR

TA-W-40,076 & A,B,C,D,F; Rockwell Automation, Components and Packaged Application Group, Department 214, Department 238, Department 240, Department 245, Department 250/270, Department 260, Milwaukee, WI

The workers firm does not produce an article as required for certification under Section 222 of the Trade Act of 1974.

TA-W-40,628; Erickson Air-Crane Co., Central Point, OR

TA-W-41,145; US Ecology-Idaho, A Div. of American Ecology Corp., Sterling, IL

TA-W-40,677; Purcell Tire Co., Silver City, NM

TA-W-40,732; LM Services, Cumberland, MD

Affirmative Determinations for Worker Adjustment Assistance

The following certifications have been issued; the date following the company name and location of each determination references the impact date for all workers of such determination.

TA-W-40,364; Nutec Tooling Systems, Inc., Meadville, PA: October 15, 2000.

TA-W-40,399; Hermes Floral, Becker, MN: October 17, 2002.

TA-W-41,180; Johnston and Murphy Manufacturing, a Div. of Genesco, Inc., Nashville, TN: February 20, 2001.

TA-W-40,076E; Rockwell Automation, Components and Packaged Application Group, Department 255, Milwaukee, WI: September 6, 2000.

TA-W-40,076F; Rockwell Automation, Components and Packaged Application Group, Department 260, Milwaukee, WI: September 6, 2000. “All workers engaged in the production of NEMA disconnects and IEC contactors are certified”.

TA-W-41,229; Precision Kidd Steel Co., Inc., Aliquippa, PA: April 1, 2001.

TA-W-41,190; TRW, Inc., TRW Automotive, Cookville, TN: February 22, 2001.

TA-W-41,060; Brooks Instruments, a Div. of Emerson Process Management, Hatfield, PA: February 7, 2001.

TA-W-41,008; Mars Footwear, Inc., Elizabethville, PA: February 11, 2001.

TA-W-40,834; Levolor Kirsch Window Fashions, Wood and Faux Wood Custom Window Coverings Department, Westminster, CA: January 28, 2001.

TA-W-40,822; Emerson Electric Co., Daniel Measurement and Control, Statesboro, GA: January 21, 2001.

TA-W-40,819; Schumacher Electric Corp., Hoopeston 001, Hoopeston, IL: January 28, 2001.

TA-W-40,694; Commercial Warehouse and Cartage, Inc., El Paso, TX: November 18, 2000.

TA-W-39,710 & A; Ogden Manufacturing Co., Orfordville, WI and Albany, WI: July 12, 2000.

Also, pursuant to Title V of the North American Free Trade Agreement Implementation Act (Pub. L. 103-182) concerning transitional adjustment assistance hereinafter called (NAFTA-TAA) and in accordance with section 250(a), Subchapter D, Chapter 2, Title II, of the Trade Act as amended, the Department of Labor presents summaries of determinations regarding eligibility to apply for NAFTA-TAA issued during the month of April, 2002.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either-

(2) That sales or production, or both, of such firm or subdivision have decreased absolutely,

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers' separations. There was no shift in production from the subject firm to Canada or Mexico during the relevant period.

NAFTA-TAA-05559; Mike Dent Enterprises, Burns, OR

NAFTA-TAA-05627; Freightliner, Parts Manufacturing Plant, Gastonia, NC

NAFTA-TAA-05834; Brooks Instruments, a Div. Of Emerson Process Management, Hatfield, PA

NAFTA-TAA-05347; Polyone Corp., Plastic Compounds and Colors Group, Corona, CA

NAFTA-TAA-05404; Glad Rags, Inc., Buchanan, VA

NAFTA-TAA-05866; Exide Technologies, Transportation Business Group, Florence, MS

NAFTA-TAA-05915; Gunderson, Inc., Portland, OR

The investigation revealed that criteria (2) has not been met. Sales or production did not decline during the relevant period as required for certification.

NAFTA-TAA-5931; Howmet Castings of Wichita Falls, Wichita Falls, TX

Affirmative Determinations NAFTA-TAA

NAFTA-TAA-05842; Schumacher Electric Corp., Hoopeston 001, Hoopeston, IL: January 28, 2001.

NAFTA-TAA-05900; Johnston and Murphy Manufacturing, A Division of Genesco, Inc., Nashville, TN: February 25, 2001.

NAFTA-TAA-05906; Laclede Steel Co., Alton, IL: February 14, 2001.

NAFTA-TAA-5098 & A; Ogden Manufacturing Co., Orfordville, WI and Albany, WI: July 17, 2000.

NAFTA-TAA-05790; Owens Illinois, Plastic Containers Div., Newburyport, MS: January 9, 2001.

NAFTA-TAA-05794; Emerson Electric Co., Daniel Measurement and Control, Statesboro, GA: January 21, 2001.

NAFTA-TAA-05849; Levolor Kirsch Window Fashions, Wood and Faux Wood Custom Window Coverings Department, Westminster, CA: February 4, 2001.

NAFTA-TAA-05986; Nice Ball Bearing Co., A Subsidiary of Roller Bearing Corp., Kulpsville, PA: February 27, 2001.

I hereby certify that the aforementioned determinations were issued during the month of April, 2002. Copies of these determinations are available for inspection in Room C-5311, U.S. Department of Labor, 200 Constitution Avenue, NW., Washington, DC 20210 during normal business hours or will be mailed to persons who write to the above address.

Dated: April 12, 2002.
Edward A. Tomchick,
Director, Division of Trade Adjustment Assistance.

[FR Doc. 02-10051 Filed 4-23-02; 8:45 am]

BILLING CODE 4510-30-M